DEPARTMENT OF COMMERCE

Bureau of Export Administration

Action Affecting Export Privileges; Black, Sivalls & Bryson (UK) Ltd.

In the Matter of: Black, Sivalls & Bryson (UK) Ltd., Centre House, 68 Sheen Lane, London SW14 8LP, United Kingdom, Respondent.

Order

The Office of Export Enforcement, Bureau of Export Administration, United States Department of Commerce (hereinafter BXA), having notified Black, Sivalls & Bryson (UK) Ltd. of its intention to initiate an administrative proceeding against it pursuant to Part 766 of the Export Administration Regulations (currently codified at 15 CFR parts 730-774 (2001)) (the Regulations),¹ issued pursuant to the Export Administration Act of 1979, as amended (50 U.S.C. app. §§ 2401-2420 (1994 & Supp. V 1999)) (the Act),² based on allegations that on three separate occasions, on or about April 15, 1996, on or about May 5, 1997, and on or about February 5, 1998, Black, Sivalls & Bryson (UK) Ltd. received oil production equipment in the United Kingdom that it knew or had reason to know its affiliated company in the United States, BS&B Process systems, Inc., had exported from the United States without the required authorization, and forwarded the items to Iran, thereby violating Section 787.4 of the former Regulations and Section 764.2(e) of the Regulations; and

¹ The alleged violations occurred in 1996, 1997 and 1998. The Regulations governing the violations at issue are found in the 1996, 1997 and 1998 versions of the Code of Federal Regulations (15 CFR parts 768-799 (1996), as amended (61 FR 12714, March 25, 1996) (hereinafter the “former Regulations”), 15 CFR parts 730-774 (1997)), and 15 CFR parts 730-774 (1998)). The March 25, 1996, issue of the Federal Register redesignated, but did not republish, the then-existing Regulations as 15 CFR Parts 768A-799A. In addition, the March 25, 1996, issue of the Federal Register reorganized and restructured the Regulations, redesignating them as an interim rule at 15 CFR parts 730-774, effective April 24, 1996. The former Regulations and the Regulations define the various violations that BXA alleges occurred. The Regulations establish the procedures that apply to this matter.

² From August 21, 1994 through November 12, 2000, the Act was in lapse. During that period, the President, through Executive Order 12924, which had been extended by successive Presidential Notices, the last of which was August 3, 2000 (3 CFR 2000 Comp. 397 (2001)), continued the Regulations in effect under the International Emergency Economic Powers Act (50 U.S.C. Secs. 1701-1706 (1994 & Supp. V 1999)) (IEEPA). On November 13, 2000, the Act was reauthorized by Pub. L. No. 106-508 and remained in effect through August 20, 2001. Since August 21, 2001, the Act has been in lapse and the President, through Executive Order 13222 of August 17, 2001 (66 FR 44025 (August 22, 2001)), has continued the Regulations in effect under IEEPA.

BXA and Black, Sivalls & Bryson (UK) Ltd. having entered into a Settlement Agreement pursuant to Section 766.18(a) of the Regulations whereby they agree to settle this matter in accordance with the terms and conditions set forth therein, and the terms of the Settlement Agreement having been approved by me;

It is therefore ordered,

First, that Black, Sivalls & Bryson (UK) Ltd. shall be assessed a civil penalty in the amount of $32,000, of which $11,000 shall be paid to BXA within 30 days from the date of entry of this Order, $11,000 shall be paid to BXA within one year of the date of entry of this Order, and the remaining $10,000 shall be paid to BXA within two years of the date of entry of this Order. Payment shall be made in the manner specified in the attached instructions.

Second, that, pursuant to the Debt Collection Act of 1982, as amended (31 U.S.C.A. Secs. 3701-3720E (1983 and Supp. 1999)), the civil penalty owed under this Order accrues interest as more fully described in the attached Notice, and, if payment is not made by the due date specified herein, respondent will be assessed, in addition to interest, a penalty charge and an administrative charge, as more fully described in the attached Notice.

Third, that, for a period of three years from the date of entry of this Order, Black, Sivalls & Bryson (UK), Ltd., Centre House, 68 Sheen Lane, London SW14 8LP, United Kingdom, may not participate, directly or indirectly, in any way in any transaction involving any commodity, software or technology (hereinafter collectively referred to as item) exported or to be exported from the United States, that is subject to the Regulations, or in any other activity subject to the Regulations, including, but not limited to:

A. Applying for, obtaining, or using any license, License Exception, or export control document;

B. Carrying on negotiations concerning, or ordering, buying, receiving, using, selling, delivering, storing, disposing if, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

Fourth, that no person may, directly, or indirectly, do any of the following:

A. Export or reexport to or on behalf of the denied person any item subject to the Regulations;

B. Take any action that facilitates the acquisition or attempted acquisition by the denied person of the ownership, possession, or control of any item subject to the Regulations that has been or will be exported from the United States, including financing or other support activities related to a transaction whereby the denied person acquires or attempts to acquire such ownership, possession or control;

C. Take any action to acquire from or to facilitate the acquisition or attempted acquisition from the denied person of any item subject to the Regulations that has been exported from the United States;

D. Obtain from the denied person in the United States any item subject to the Regulations with knowledge or reason to know that the item will be, or is intended to be, exported from the United States; or

E. Engage in any transaction to service any item subject to the Regulations that has been or will be exported from the United States and that is owned, possessed or controlled by the denied person, or service any item, of whatever origin, that is owned, possessed or controlled by the denied person if such service involves the use of any item subject to the Regulations that has been or will be exported from the United States. For purposes of this paragraph, servicing means installation, maintenance, repair, modification or testing.

Fifth, that, after notice and opportunity for comment as provided in Section 766.23 of the Regulations, any person, firm, corporation, or business organization related to Black, Sivalls & Bryson (UK) Ltd. by affiliation, ownership, control or position of responsibility in the conduct of trade or related services may also be subject to the provisions of this Order.

Sixth, that this Order does not prohibit any export, reexport, or other transaction subject to the Regulations where the only items involved that are subject to the Regulations are the foreign-produced direct product of U.S.-origin technology.

Seventh, that, as authorized by Section 766.18(c) of the Regulations, the last two years of the denial period set forth above shall be suspended for a period of two years beginning one year from the date of entry of the appropriate Order and shall thereafter be waived, provided that Black, Sivalls & Bryson (UK) Ltd. has committed no violation of the Act, or any regulation, order, or license issued thereunder, including failure to make timely payments of the civil penalty set forth above.

Eighth, that the proposed Charging Letter, the Settlement Agreement, and this Order shall be made available to the public.

This Order, which constitutes the final agency action in this matter, is effective immediately.

Entered this 4th day of February, 2002.
Michael J. Garcia,
Assistant Secretary for Export Enforcement.

[FR Doc. 02-3856 Filed 2-15-02; 8:45 am]

BILLING CODE 3510-DT-M